FEDERAL COMMUNICATIONS COMMISSION

Public Information Collections Approved by Office of Management and Budget

August 18, 2003.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0859.

OMB Approval date: 06/03/2003.

Expiration Date: 06/30/2006.

Title: Suggested Guidelines for Petititons for Ruling Under Section 253 of the Communications Act.

Form No.: N/A.

Estimated Annual Burden: 80 responses; 6,280 total annual hours; 78.5 hours per respondent.

Needs and Uses: The attached Public Notice establishes various procedural guidelines related to the Commission's processing of petitions for preemption pursuant to Section 253 of the Communications Act of 1934, as amended. The Commission will use the information to discharge its statutory mandate relating to the preemption of state or local statutes or other state or local legal requirements.

OMB Control No.: 3060-0876.

OMB Approval date: 06/24/2003.

Expiration Date: 06/30/2006.

Title: USAC Board of Directors Nomination Process (47 CFR Section 54.703) and Review of Administrator's Decision (47 CFR Sections 54.719-54.725).

Form No.: N/A.

Estimated Annual Burden: 1312 responses; 41,840 total annual hours; approximately 32 hours per respondent.

Needs and Uses: Pursuant to 47 CFR Section 54.703 industry and non-industry groups may submit to the Commission for apporoval nominations for individuals to be appointed to the USAC Board of Directors. 47 CFR Sections 54.719-54.725 contain the procedures for Commission review of USAC decisions, including the general filing requirements pursuant to which parties must file requests for review. The information is used by the Commission to select USAC's Board of directors and to ensure that requests for review are filed properly with the Commission.

OMB Control No.: 3060-0463.

OMB Approval date: 06/24/2003.

Expiration Date: 06/30/2006.

Title: Telecommunications Relay Services and the Americans with Disabilities Act of 1990, 47 CFR Part 64 (Section 64.604 (a)(3).

Form No.: N/A.

Estimated Annual Burden: 5,053 responses; 26,837 total annual hours; 5-6 hours per respondent.

Needs and Uses: The attached Report and Order eliminates the coin sent-paid requirement and encourages specific outreach and education programs to inform TRS users of their options when placing calls from payphones. Because the Commission concludes that it is infeasible to provide coin sent-paid toll relay service through payphones at this time, and the coin sent-paid toll functionality is not necessary to achieve functional equivalence, carriers need not provide coin sent-paid toll TRS calls from payphones. The attached Report and Order requires carriers to continue to provide coin sent-paid local calls free to TRS users. The Report and Order requires carriers via the Industry Team to submit a one time report on the efforts industry has made to educate consumers on how to make toll coin sent-paid calls.

OMB Control No.: 3060-0804.

OMB Approval date: 06/18/2003.

Expiration Date: 06/30/2006.

Title: Universal Service—Health Care Providers Universal Service Program.

Form No.: FCC Forms 465,466,466-A, and 467.

Estimated Annual Burden: 5,605 responses; 8,805 total annual hours; 1-2 hours per respondent.

Needs and Uses: The Commission adopted rules providing support for all telecommunications services, Internet access, and internal connections for all eligible health care providers. Health care providers who want to participate in the universal service program must file several forms, including FCC Forms 466 and 468. FCC Forms 466 and 468 are being revised and combined into one comprehensive form. The information is used to ensure that telecommunications carriers and eligible providers of information services receive the appropriate credit for providing eligible services.

OMB Control No.: 3060-0824.

OMB Approval date: 07/14/2003.

Expiration Date: 07/31/2006.

Title: Service Provider Identification Number and Contact Form.

Form No.: FCC Form 498.

Estimated Annual Burden: 5,000 responses; 10,000 total annual hours; 2 hours per respondent.

Needs and Uses: The Administrator of the universal service program must obtain contact and remittance information from service providers participating in the universal service high cost, low income, rural health care, and schools and libraries programs. The Administrator uses FCC Form 498 to collect service provider name, phone numbers, other contact information, and remittance information from universal service fund participants to enable the Administrator to perform its universal service disbursement functions under 47 CFR Part 54. FCC Form 498 allows fund participants to direct remittance to third parties or receive payments directly from the Administrator.

OMB Control No.: 3060-0613.

OMB Approval date: 07/23/2003.

Expiration Date: 07/31/2006.

Title: Expanded Interconnection with Local Telephone Company Facilities, CC Docket No. 91-141, Transport Phase II (Third R & O).

Form No.: N/A.

Estimated Annual Burden: 64 responses; 832 total annual hours; 13 hours per respondent.

Needs and Uses: Tier 1 local excange carriers (except NECA members) are required to make tariff filing to provide certain signalling information to interested parties so that those parties can provide tandem switching services. Tandem swiching providers are required to provide certain billing information to those Tier 1 local exchange carriers.

OMB Control No.: 3060-0853.

OMB Approval date: 08/14/2003.

Expiration Date: 02/29/2004.

Title: Receipt of Service Confirmation Form; Adjustment of Funding Commitment; and Certification by Administrative Authority to Billed Entity of Compliance with Children's Internet Protection Act—Universal Service for Schools and Libraries.

Form No.: FCC Forms 479, 486, and 500.

Estimated Annual Burden: 40,000 responses; 75,000 total annual hours; 1-2 hours per respondent.

Needs and Uses: Following a district court decision that portions of CIPA were unconstitutional, the Commission modified FCC Forms 479 and 486 to remove certain language from the certifications for libraries (language requiring compliance with the parts of CIPA the district court found unconstitutional). The Supreme Court reversed the district court decision and the Commission must revise the forms to enable libraries to certify their compliance with CIPA. Specifically, the Commission will make a few small changes to the forms in item 6.b and 11 of the Form 486 and Item 6 of the FCC 479. FCC Form 500 remains unchanged. Additionally, the Commission is requesting contact information to conform with the contact information requested in other Schools and Libraries Universal Service forms.

Federal Communications Commission.
Marlene H. Dortch,
Secretary.

[FR Doc. 03-21620 Filed 8-22-03; 8:45 am]

BILLING CODE 6712-01-P